FEDERAL COMMUNICATIONS COMMISSION

47 CFR Parts 0, 1, 13, 80 and 87

[WT Docket No. 10-177; FCC 13-4]

Commercial Radio Operators

AGENCY: Federal Communications Commission.

ACTION: Final rule.

SUMMARY: This document amends our rules concerning commercial radio operator licenses for maritime and aviation radio stations in order to reduce administrative burdens in the public's interest.

DATES: Effective May 20, 2013, except for amendments to §§ 1.913(d)(1)(vi), 13.9(c), and 13.13(c), which contain information collection requirements that are not effective until approved by the Office of Management and Budget (“OMB”). The FCC will publish a document in the Federal Register announcing the effective date for those sections.

FOR FURTHER INFORMATION CONTACT: Stana Kimball, Mobility Division, Wireless Telecommunications Bureau, (202) 418-1306, TTY (202) 418-7233.

SUPPLEMENTARY INFORMATION: This is a summary of the Federal Communications Commission's Report and Order (R&O), WT Docket No. 10-177, FCC 13-4, adopted January 8, 2013, and released January 8, 2013. The full text of this document is available for inspection and copying during normal business hours in the FCC Reference Center, 445 12th Street SW., Room CY-A257, Washington, DC 20554, or by downloading the text from the Commission's Web site at http://www.fcc.gov/Daily_Releases/Daily_Digest/2013/130109.html. The complete text also may be purchased from the Commission's duplicating contractor, Best Copy and Printing, Inc., Portals II, 445 12th Street SW., Suite CY-B402, Washington, DC 20554. Alternative formats are available for people with disabilities (Braille, large print, electronic files, audio format), by sending an email to FCC504@fcc.gov or calling the Consumer and Government Affairs Bureau at (202) 418-0530 (voice), (202) 418-0432 (TTY).

1. The Federal Communications Commission's (Commission) rules require that a person who operates, maintains, or conducts the mandatory inspection of certain maritime and aviation radio stations hold an appropriate commercial radio operator license. The Commission initiated this proceeding to amend the part 13 Commercial Radio Operator rules, and related rules in parts 0, 1, 80, and 87 regarding certain functions performed by licensed commercial radio operators, to determine which rules could be clarified, streamlined, or eliminated in order to reduce administrative burdens and make the rules easier to use. The Commission takes the following significant actions in the R&O in WT Docket No. 10-177: (1) Consolidating the three classes of radiotelegraph operator's certificates; (2) eliminating redundant and outdated restrictive endorsements; (3) modifying certain procedural and recordkeeping requirements applicable to commercial operator license examination managers (COLEMs); and (4) clarifying the rules that pertain to log-keeping requirements. In addition, we decline to change the current process for maintaining question pools, and the rules that pertain to equipment testing intervals.

I. Procedural Matters

A. Paperwork Reduction Act Analysis

2. This document contains modified information collection requirements subject to the Paperwork Reduction Act of 1995 (PRA), Public Law 104-13. It has been submitted to the Office of Management and Budget (OMB) for review under section 3507(d) of the PRA. OMB, the general public, and other Federal agencies are invited to comment on the new or modified information collection requirements contained in this proceeding. In addition, the Commission notes that pursuant to the Small Business Paperwork Relief Act of 2002, Public Law 107-198, see 44 U.S.C. 3506(c)(4), it previously sought specific comment on how it might further reduce the information collection burden for small business concerns with fewer than 25 employees.

3. In the present document, the Commission has assessed the effects of our requirements that COLEMs filing applications on behalf of applicants submit the information electronically, and believe the burden will be minimal. Therefore, we find that these modified information collection requirements will not impose a substantial burden on businesses with fewer than 25 employees.

B. Report to Congress

4. The Commission will send a copy of this R&O in a report to Congress and the Government Accountability Office pursuant to the Congressional Review Act, see 5 U.S.C. 801(a)(1)(A).

C. Final Regulatory Flexibility Analysis

5. As required by the Regulatory Flexibility Act of 1980, as amended (RFA), an Initial Regulatory Flexibility Analysis (IRFA) was incorporated in the Notice of Proposed Rule Making NPRM, in WT Docket 10-177, at 75 FR 66709, October 29, 2010. The Commission sought written public comment on the proposals in the NPRM, including comment on the IRFA. This present Final Regulatory Flexibility Analysis (FRFA) conforms to the RFA.

Need for, and Objectives of, the Report and Order

6. We believe it is appropriate to review our regulations relating to commercial radio operators to determine which rules can be clarified, streamlined or eliminated. In this R&O, we make miscellaneous amendments that are intended to clarify part 13 rules, including the elimination of rules that refer to outdated services, equipment, and technology. Specifically, to reflect advancements in the radio telegraph technology, by this R&O, the Commission ceases to grant new First Class Radiotelegraph Operator's Certificates because the one-year radiotelegraph experience requirement is almost impossible to meet, and consolidates the remaining two classes of radiotelegraph operator's certificates in one. It also eliminates redundant and outdated restrictive endorsements; modifies certain procedural and recordkeeping requirements applicable to COLEMs; and clarifies the rules that pertain to log-keeping requirements. In addition, this R&O makes changes to rules contained in parts 0, 1, 80, and 87 that relate to commercial radio operator services.

Summary of Significant Issues Raised by Public Comments in Response to the IRFA

7. There were no comments that specifically addressed the IRFA. Nonetheless, we have considered the potential impact of the rules adopted herein on small entities, and conclude that such impact would be minimal, in terms of measurable economic costs associated with compliance with the rules.

Description and Estimate of the Number of Small Entities to Which Rules Will Apply

8. The RFA directs agencies to provide a description of and, where feasible, an estimate of the number of small entities that may be affected by the rules adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

9. Commercial radio licenses are issued only to individuals. Individuals are not “small entities” under the RFA.

10. Individual licensees are tested by COLEMs. The Commission has not developed a definition for a small business or small organization that is applicable for COLEMs. All or almost all of the nine COLEM organizations would appear to meet the RFA definition for small business or small organization.

Description of Projected Reporting, Recordkeeping, and Other Compliance Requirements for Small Entities

11. COLEMs would be required to retain certain records for three years, instead of the existing one-year retention period; but would submit that information to the Commission only upon request, instead submitting it on a regular schedule as occurs presently. This would effectively eliminate the existing economic burden related to the reporting requirement, and it would not create any additional measurable economic burden in connection with the extended recordkeeping requirement. COLEMs would also be required to provide examination results to examinees within three business days, and to use electronic filing when submitting applications on behalf of examinees. Because almost all COLEMs already meet both of these requirements, this also would create no additional economic burden on COLEMs.

Steps Taken To Minimize the Significant Economic Impact on Small Entities, and Significant Alternatives Considered

12. The RFA requires an agency to describe the steps it has taken to minimize the significant economic impact on small entities consistent with the stated objectives of applicable statutes, including a statement of the factual, policy, and legal reasons for selecting the alternative adopted in the final rule and why each one of the other significant alternatives to the rule considered by the agency which affect the impact on small entities was rejected.

13. We believe the changes adopted in this R&O will promote flexibility and more efficient use of the spectrum, without creating administrative burdens on COLEMs. Many of the adopted changes constitute clarification of existing requirements or elimination of reporting requirements and other rules that are outdated. No commenter identified any less burdensome alternatives that would be consistent with the item's objectives and the Commission's goals and responsibilities.

F. Report to Congress

14. The Commission will send a copy of the R&O in WT Docket No. 10-177, including the Final Regulatory Flexibility Analysis, in a report to be sent to Congress and the Congressional Budget Office pursuant to the Congressional Review Act. In addition, the Commission will send a copy of the R&O in WT Docket No. 10-177, including the Final Regulatory Flexibility Analysis, to the Chief Counsel for Advocacy of the SBA. A copy of the R&O in WT Docket No. 10-177 and the Final Regulatory Flexibility Analysis (or summaries thereof) will also be published in the Federal Register.

List of Subjects

47 CFR Part 0

Organization and functions (Government agencies).

47 CFR Part 1

Administrative practice and procedure, Communications common carriers, Telecommunications.

47 CFR Part 13

Communications equipment, Radio.

47 CFR Part 80

Communications equipment, Radio.

47 CFR Part 87

Air transportation, Communications equipment, Radio.

Federal Communications Commission.
Marlene H. Dortch,
Secretary.

Final Rules

For the reasons discussed in the preamble, the Federal Communications Commission amends 47 CFR parts 0, 1, 13, 80, and 87 as follows:

PART 0—COMMISSION ORGANIZATION

1. The authority citation for Part 0 continues to read as follows:

Authority: Secs. 5, 48 Stat. 1068, as amended; 47 U.S.C. 155.

2. Section 0.111 is amended by revising paragraph (e) to read as follows:

§ 0.111 Functions of the Bureau.

* * * * *

(e) Coordinate with and assist the Wireless Telecommunications Bureau with respect to the Commission's privatized ship radio inspection program.

* * * * *

3. Section 0.131 is amended by revising paragraph (j) and adding paragraphs (r)(1) and (r)(2) to read as follows:

§ 0.131 Functions of the Bureau.

* * * * *

(j) Administers the Commission's commercial radio operator program (part 13 of this chapter); the Commission's program for registration, construction, marking and lighting of antenna structures (part 17 of this chapter), and the Commission's privatized ship radio inspection program (part 80 of this chapter).

* * * * *

(r)(1) Extends the Communications Act Safety Radiotelephony Certificate for a period of up to 90 days beyond the specified expiration date.

(2) Grants emergency exemption requests, extensions or waivers of inspection to ships in accordance with applicable provisions of the Communications Act, the Safety Convention, the Great Lakes Agreement or the Commission's rules.

§ 0.314 [Amended]

4. Section 0.314 is amended by removing paragraph (b), and redesignating paragraphs (c) through (j) as paragraphs (b) through (i).

5. Section 0.483 is amended by revising paragraph (b) to read as follows:

§ 0.483 Applications for amateur or commercial radio operator licenses.

* * * * *

(b) Application filing procedures for commercial radio operator licenses are set forth in part 13 of this chapter.

§ 0.489 [Removed and reserved].

6. Section 0.489 is removed and reserved.

PART 1—PRACTICE AND PROCEDURE

7. The authority citation for part 1 continues to read as follows:

Authority: 15 U.S.C. 79 et seq.; 47 U.S.C. 151, 154(i), 154(j), 155, 157, 225, 303(r), and 309.

8. Section 1.85 is revised to read as follows:

§ 1.85 Suspension of operator licenses.

Whenever grounds exist for suspension of an operator license, as provided in § 303(m) of the Communications Act, the Chief of the Wireless Telecommunications Bureau, with respect to amateur and commercial radio operator licenses, may issue an order suspending the operator license. No order of suspension of any operator's license shall take effect until 15 days' notice in writing of the cause for the proposed suspension has been given to the operator licensee, who may make written application to the Commission at any time within the said 15 days for a hearing upon such order. The notice to the operator licensee shall not be effective until actually received by him, and from that time he shall have 15 days in which to mail the said application. In the event that physical conditions prevent mailing of the application before the expiration of the 15-day period, the application shall then be mailed as soon as possible thereafter, accompanied by a satisfactory explanation of the delay. Upon receipt by the Commission of such application for hearing, said order of suspension shall be designated for hearing by the Chief, Wireless Telecommunications Bureau and said suspension shall be held in abeyance until the conclusion of the hearing. Upon the conclusion of said hearing, the Commission may affirm, modify, or revoke said order of suspension. If the license is ordered suspended, the operator shall send his operator license to the Mobility Division, Wireless Telecommunications Bureau, in Washington, DC, on or before the effective date of the order, or, if the effective date has passed at the time notice is received, the license shall be sent to the Commission forthwith.

9. Section 1.913 is amended by revising paragraph (d)(1)(vi) to read as follows:

§ 1.913 Application and notification forms; electronic and manual filing.

* * * * *

(d) * * *

(1) * * *

(vi) Part 13 Commercial Radio Operators (individual applicants only; commercial operator license examination managers must file electronically, see § 13.13(c) of this part); and

* * * * *

PART 13—COMMERCIAL RADIO OPERATORS

10. The authority citation for part 13 continues to read as follows:

Authority: Secs. 4, 303, 48 Stat. 1066, 1082, as amended; 47 U.S.C. 154, 303.

11. Section 13.5 is revised to read as follows:

§ 13.5 Licensed commercial radio operator required.

Rules that require FCC station licensees to have certain transmitter operation, maintenance, and repair duties performed by a commercial radio operator are contained in parts 80 and 87 of this chapter.

12. Section 13.7 is amended by revising paragraphs (b) introductory text, (b)(1) through (b)(3) and (c),, redesignating paragraphs (b)(4) through (b)(11) as paragraphs (b)(5) through (b)(12), and adding a new paragraph (b)(4).

The revisions and additions read as follows:

§ 13.7 Classification of operator licenses and endorsements.

* * * * *

(b) There are twelve types of commercial radio operator licenses, certificates and permits (licenses). The license's ITU classification, if different from its name, is given in parentheses.

(1) First Class Radiotelegraph Operator's Certificate. Beginning May 20, 2013, no applications for new First Class Radiotelegraph Operator's Certificates will be accepted for filing.

(2) Second Class Radiotelegraph Operator's Certificate. Beginning May 20, 2013, no applications for new Second Class Radiotelegraph Operator's Certificates will be accepted for filing.

(3) Third Class Radiotelegraph Operator's Certificate (radiotelegraph operator's special certificate). Beginning May 20, 2013, no applications for new Third Class Radiotelegraph Operator's Certificates will be accepted for filing.

(4) Radiotelegraph Operator License.

* * * * *

(c) There are three license endorsements affixed by the FCC to provide special authorizations or restrictions. Endorsements may be affixed to the license(s) indicated in parentheses.

(1) Ship Radar Endorsement (First and Second Class Radiotelegraph Operator's Certificates, Radiotelegraph Operator License, General Radiotelephone Operator License, GMDSS Radio Maintainer's License).

(2) Six Months Service Endorsement (First and Second Class Radiotelegraph Operator's Certificates, Radiotelegraph Operator License)

(3) Restrictive endorsements relating to physical disability, English language or literacy waivers, or other matters (all licenses).

* * * * *

13. Section 13.8 is amended by revising paragraphs (a), (b), (d), (e), and (f), and adding new paragraph (g), to read as follows:

§ 13.8 Authority conveyed.

* * * * *

(a) A First Class Radiotelegraph Operator's Certificate conveys all of the operating authority of the Second Class Radiotelegraph Operator's Certificate, the Third Class Radiotelegraph Operator's Certificate, the Radiotelegraph Operator License, the Restricted Radiotelephone Operator Permit, and the Marine Radio Operator Permit.

(b) A Radiotelegraph Operator License conveys all of the operating authority of the Second Class Radiotelegraph Operator's Certificate, which conveys all of the operating authority of the Third Class Radiotelegraph Operator's Certificate, the Restricted Radiotelephone Operator Permit, and the Marine Radio Operator Permit.

* * * * *

(d) A General Radiotelephone Operator License conveys all of the operating authority of the Marine Radio Operator Permit and the Restricted Radiotelephone Operator Permit.

(e) A GMDSS Radio Operator's License conveys all of the operating authority of the Marine Radio Operator Permit and the Restricted Radiotelephone Operator Permit.

(f) A GMDSS Radio Maintainer's License conveys all of the operating authority of the General Radiotelephone Operator License, the Marine Radio Operator Permit, and the Restricted Radiotelephone Operator Permit.

(g) A Marine Radio Operator Permit conveys all of the authority of the Restricted Radiotelephone Operator Permit.

14. Section 13.9 is amended by revising paragraphs (b), (c), (d)(1), (d)(2), and (f)(4), and adding paragraph (d)(3) to read as follows:

§ 13.9 Eligibility and application for new license or endorsement.

* * * * *

(b) Each application for a new General Radiotelephone Operator License, Marine Radio Operator Permit, Radiotelegraph Operator License, Ship Radar Endorsement, Six Months Service Endorsement, GMDSS Radio Operator's License, Restricted GMDSS Radio Operator's License, GMDSS Radio Maintainer's License, GMDSS Radio Operator/Maintainer License, Restricted Radiotelephone Operator Permit, or Restricted Radiotelephone Operator Permit-Limited Use must be filed on FCC Form 605 in accordance with § 1.913 of this chapter.

(c) Each application for a new General Radiotelephone Operator License, Marine Radio Operator Permit, Radiotelegraph Operator License, Ship Radar Endorsement, GMDSS Radio Operator's License, Restricted GMDSS Radio Operator's License, GMDSS Radio Maintainer's License, or GMDSS Radio Operator/Maintainer License must be accompanied by the required fee, if any, and submitted in accordance with § 1.913 of this chapter. The application must include an original PPC(s) from a COLEM(s) showing that the applicant has passed the necessary examination Element(s) within the previous 365 days when the applicant files the application. If a COLEM files the application on behalf of the applicant, an original PPC(s) is not required. However, the COLEM must keep the PPC(s) on file for a period of 1 year. When acting on behalf of qualified examinees, the COLEM must forward all required data to the FCC electronically.

(d) * * *

(1) An unexpired (or within the grace period) FCC-issued commercial radio operator license: Except as noted in paragraph (d)(3) of this section, the written examination and telegraphy Element(s) required to obtain the license held;

(2) An expired or unexpired FCC-issued Amateur Extra Class operator license grant granted before April 15, 2000: Telegraphy Elements 1 and 2; and

(3) An FCC-issued Third Class Radiotelegraph Operator's Certificate that was renewed as a Marine Radio Operator Permit (see § 13.13(b) of this chapter) that is unexpired (or within the grace period): Telegraphy Elements 1 and 2.

* * * * *

(f) * * *

(4) The applicant held a FCC-issued First Class Radiotelegraph Operator's Certificate, Second Class Radiotelegraph Operator's Certificate, or Radiotelegraph Operator License during this entire six month qualifying period; and

* * * * *

15. Section 13.10 is revised to read as follows:

§ 13.10 Licensee address.

In accordance with § 1.923 of this chapter, all applicants (except applicants for a Restricted Radiotelephone Operator Permit or a Restricted Radiotelephone Operator Permit-Limited Use) must specify an address where the applicant can receive mail delivery by the United States Postal Service. Suspension of the operator license may result when correspondence from the FCC is returned as undeliverable because the applicant failed to provide the correct mailing address.

16. Section 13.11 is amended by revising paragraph (a) to read as follows:

§ 13.11 Holding more than one commercial radio operator license.

(a) An eligible person may hold more than one commercial operator license.

* * * * *

17. Section 13.13 is revised to read as follows:

§ 13.13 Application for a renewed or modified license.

(a) Each application to renew a First Class Radiotelegraph Operator's Certificate, Second Class Radiotelegraph Operator's Certificate, Third Class Radiotelegraph Operator's Certificate, or Radiotelegraph Operator License must be made on FCC Form 605. The application must be accompanied by the appropriate fee and submitted in accordance with § 1.913 of this chapter. Beginning May 20, 2013, First and Second Class Radiotelegraph Operator's Certificates will be renewed as Radiotelegraph Operator Licenses, and Third Class Radiotelegraph Operator's Certificates will be renewed as Marine Radio Operator Permits.

(b) If a license expires, application for renewal may be made during a grace period of five years after the expiration date without having to retake the required examinations. The application must be accompanied by the required fee and submitted in accordance with § 1.913 of this chapter. During the grace period, the expired license is not valid. A license renewed during the grace period will be effective as of the date of the renewal. Licensees who fail to renew their licenses within the grace period must apply for a new license and take the required examination(s). Beginning May 20, 2013, no applications for new First, Second, or Third Class Radiotelegraph Operator's Certificates will be accepted for filing.

(c) Each application involving a change in operator class must be filed on FCC Form 605. Each application for a commercial operator license involving a change in operator class must be accompanied by the required fee, if any, and submitted in accordance with § 1.913 of this chapter. The application must include an original PPC(s) from a COLEM(s) showing that the applicant has passed the necessary examination Element(s) within the previous 365 days when the applicant files the application. If a COLEM files the application on behalf of the applicant, an original PPC(s) is not required. However, the COLEM must keep the PPC(s) on file for a period of 1 year. When acting on behalf of qualified examinees, the COLEM must forward all required data to the FCC electronically.

(d) Provided that a person's commercial radio operator license was not revoked, or suspended, and is not the subject of an ongoing suspension proceeding, a person holding a General Radiotelephone Operator License, Marine Radio Operator Permit, First Class Radiotelegraph Operator's Certificate, Second Class Radiotelegraph Operator's Certificate, Third Class Radiotelegraph Operator's Certificate, Radiotelegraph Operator License, GMDSS Radio Operator's License, GMDSS Radio Maintainer's License, or GMDSS Radio Operator/Maintainer License, who has an application for another commercial radio operator license which has not yet been acted upon pending at the FCC and who holds a PPC(s) indicating that he or she passed the necessary examination(s) within the previous 365 days, is authorized to exercise the rights and privileges of the license for which the application is filed. This temporary conditional operating authority is valid for a period of 90 days from the date the application is received. This temporary conditional operating authority does not relieve the licensee of the obligation to comply with the certification requirements of the Standards of Training, Certification and Watchkeeping (STCW) Convention. The FCC, in its discretion, may cancel this temporary conditional operating authority without a hearing.

(e) An applicant will be given credit for an examination element as specified below:

(1) An unexpired (or within the grace period) FCC-issued commercial radio operator license: Except as noted in paragraph (e)(3) of this section, the written examination and telegraphy Element(s) required to obtain the license held;

(2) An expired or unexpired FCC-issued Amateur Extra Class operator license grant granted before April 15, 2000: Telegraphy Elements 1 and 2; and

(3) An FCC-issued Third Class Radiotelegraph Operator's Certificate that was renewed as a Marine Radio Operator Permit (see § 13.13(b) of this chapter) that is unexpired (or within the grace period): Telegraphy Elements 1 and 2.

18. Section 13.15 is revised to read as follows:

§ 13.15 License term.

First Class Radiotelegraph Operator's Certificates, Second Class Radiotelegraph Operator's Certificates, and Third Class Radiotelegraph Operator's Certificates are normally valid for a term of five years from the date of issuance. All other commercial radio operator licenses are normally valid for the lifetime of the holder.

19. Section 13.17 is amended by removing paragraph (d), redesignating paragraph (e) as paragraph (d), and revising paragraphs (a), (b), and (c) to read as follows:

§ 13.17 Replacement license.

(a) Each licensee or permittee whose original document is lost, mutilated, or destroyed may request a replacement. The application must be accompanied by the required fee and submitted to the address specified in part 1 of the rules.

(b) Each application for a replacement General Radiotelephone Operator License, Marine Radio Operator Permit, First Class Radiotelegraph Operator's Certificate, Second Class Radiotelegraph Operator's Certificate, Third Class Radiotelegraph Operator's Certificate, Radiotelegraph Operator Certificate, GMDSS Radio Operator's License, Restricted GMDSS Radio Operator's License, GMDSS Radio Maintainer's License, or GMDSS Radio Operator/Maintainer License must be made on FCC Form 605 and must include a written explanation as to the circumstances involved in the loss, mutilation, or destruction of the original document.

(c) Each application for a replacement Restricted Radiotelephone Operator Permit or Restricted Radiotelephone Operator Permit-Limited Use must be on FCC Form 605.

* * * * *

20. Section 13.19 is amended by revising paragraph (b)(3) to read as follows:

§ 13.19 Operator's responsibility.

* * * * *

(b) * * *

(3) The class, serial number, and expiration date (if applicable) of the license when the FCC has issued the operator a license; or the PPC serial number(s) and date(s) of issue when the operator is awaiting FCC action on an application.

* * * * *

21. Section 13.201 is amended by removing paragraphs (b)(1) and (b)(3), redesignating paragraph (b)(2) as (b)(1) and paragraphs (b)(4) through (9) as paragraphs (b)(2) through (7), and revising redesignated paragraph (b)(1) to read as follows:

§ 13.201 Qualifying for a commercial operator license or endorsement.

* * * * *

(b) * * *

(1) Radiotelegraph Operator License.

(i) Telegraphy Elements 1 and 2;

(ii) Written Elements 1 and 6.

* * * * *

22. Section 13.203 is amended by revising paragraph (a)(1) and (a)(2), and by removing paragraphs (a)(3), (b)(3), and (b)(4), and redesignating paragraphs (a)(4) through (8) as paragraphs (a)(3) through (7) to read as follows:

§ 13.203 Examination elements.

(a) * * *

(1) Element 1: Basic radio law and operating practice with which every maritime radio operator should be familiar. Questions concerning provisions of laws, treaties, regulations, and operating procedures and practices generally followed or required in communicating by means of radiotelephone stations.

(2) Element 3: General radiotelephone. Questions concerning electronic fundamentals and techniques required to adjust, repair, and maintain radio transmitters and receivers at stations licensed by the FCC in the aviation and maritime radio services.

* * * * *

23. Section 13.209 is amended by revising paragraphs (d), and (g), and by removing paragraph (e), and redesignating paragraphs (f) through (j) as (e) through (i) to read as follows:

§ 13.209 Examination procedures.

* * * * *

(d) Passing a telegraphy examination. Passing a telegraphy receiving examination is adequate proof of an examinee's ability to both send and receive telegraphy. The COLEM, however, may also include a sending segment in a telegraphy examination.

(1) To pass a receiving telegraphy examination, an examinee is required to receive correctly the message by ear, for a period of 1 minute without error at the rate of speed specified in § 13.203(b).

(2) To pass a sending telegraphy examination, an examinee is required to send correctly for a period of one minute at the rate of speed specified in § 13.203(b).

* * * * *

(g) No applicant who is eligible to apply for any commercial radio operator license shall, by reason of any physical disability, be denied the privilege of applying and being permitted to attempt to prove his or her qualifications (by examination if examination is required) for such commercial radio operator license in accordance with procedures established by the COLEM.

* * * * *

24. Section 13.211 is amended by revising paragraph (e) to read as follows:

§ 13.211 Commercial radio operator license examination.

* * * * *

(e) Within 3 business days of completion of the examination Element(s), the COLEM must provide the results of the examination to the examinee and the COLEM must issue a PPC to an examinee who scores a passing grade on an examination Element.

* * * * *

25. Section 13.217 is revised to read as follows:

§ 13.217 Records.

Each COLEM recovering fees from examinees must maintain records of expenses and revenues, frequency of examinations administered, and examination pass rates. Records must cover the period from January 1 to December 31 of the preceding year and must be submitted as directed by the Commission. Each COLEM must retain records for 3 years and the records must be made available to the FCC upon request.

PART 80—STATIONS IN THE MARITIME SERVICES

26. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

27. Section 80.59 is amended by revising the note and table in paragraph (a)(1), and paragraph (b) to read as follows:

§ 80.59 Compulsory ship inspections.

(a) * * *

(1) * * *

Note: Nothing in this section prohibits Commission inspectors from inspecting ships. The mandatory inspection of U.S. vessels must be conducted by an FCC-licensed technician holding an FCC General Radiotelephone Operator License, GMDSS Radio Maintainer's License, Second Class Radiotelegraph Operator's Certificate, First Class Radiotelegraph Operator's Certificate, or Radiotelegraph Operator License in accordance with the following table:

Category of vessel | Minimum class of FCC license required by private sector technician to conduct inspection—only one license required: General radiotele-phone operator license | Minimum class of FCC license required by private sector technician to conduct inspection—only one license required: GMDSS radio maintainer's license | Minimum class of FCC license required by private sector technician to conduct inspection—only one license required: Radiotelegraph operator license (formerly second class radiotelegraph operator's certificate) | Minimum class of FCC license required by private sector technician to conduct inspection—only one license required: First class radiotelegraph operator's certificate.
Radiotelephone equipped vessels subject to 47 CFR part 80, subpart R or S | √ | √ | √ | √
GMDSS equipped vessels subject to 47 CFR part 80, subpart W |  | √ |  |

* * * * *

(b) Inspection and certification of a ship subject to the Great Lakes Agreement. The FCC will not inspect Great Lakes Agreement vessels. An inspection and certification of a ship subject to the Great Lakes Agreement must be made by a technician holding one of the following: an FCC General Radiotelephone Operator License, a GMDSS Radio Maintainer's License, a Second Class Radiotelegraph Operator's Certificate, a First Class Radiotelegraph Operator's Certificate, or a Radiotelegraph Operator License. The certification required by § 80.953 must be entered into the ship's log. The technician conducting the inspection and providing the certification must not be the vessel's owner, operator, master, or an employee of any of them. Additionally, the vessel owner, operator, or ship's master must certify that the inspection was satisfactory. There are no FCC prior notice requirements for any inspection pursuant to § 80.59(b).

* * * * *

28. Section 80.151 is amended by revising paragraphs (b)(9) through (11), adding a new paragraph (b)(12), and revising paragraphs (c)(1) through (3) to read as follows:

§ 80.151 Classification of operator licenses and endorsements.

* * * * *

(b) * * *

(9) T-3. Third Class Radiotelegraph Operator's Certificate (radiotelegraph operator's special certificate). Beginning May 20, 2013, no applications for new Third Class Radiotelegraph Operator's Certificates will be accepted for filing.

(10) T-2. Second Class Radiotelegraph Operator's Certificate. Beginning May 20, 2013, no applications for new Second Class Radiotelegraph Operator's Certificates will be accepted for filing.

(11) T-1. First Class Radiotelegraph Operator's Certificate. Beginning May 20, 2013, no applications for new First Class Radiotelegraph Operator's Certificates will be accepted for filing.

(12) T. Radiotelegraph Operator License.(c) * * *

(1) Ship Radar endorsement (First Class Radiotelegraph Operator's Certificate, Second Class Radiotelegraph Operator's Certificate, Radiotelegraph Operator License, General Radiotelephone Operator License).

(2) Six Months Service endorsement (First Class Radiotelegraph Operator's Certificate, Second Class Radiotelegraph Operator's Certificate, Radiotelegraph Operator License).

(3) Restrictive endorsements; relating to physical disabilities, English language or literacy waivers, or other matters (all licenses).

29. Section 80.157 is revised to read as follows:

§ 80.157 Radio officer defined.

A radio officer means a person holding a First Class Radiotelegraph Operator's Certificate, Second Class Radiotelegraph Operator's Certificate, or Radiotelegraph Operator License issued by the Commission, who is employed to operate a ship radio station in compliance with Part II of Title II of the Communications Act. Such a person is also required to be licensed as a radio officer by the U.S. Coast Guard when employed to operate a ship radiotelegraph station.

30. Section 80.159 is amended by revising paragraphs (a) and (b) to read as follows:

§ 80.159 Operator requirements of Title III of the Communications Act and the Safety Convention.

(a) Each telegraphy passenger ship equipped with a radiotelegraph station in accordance with Part II of Title III of the Communications Act must carry two radio officers holding a First Class Radiotelegraph Operator's Certificate, Second Class Radiotelegraph Operator's Certificate, or Radiotelegraph Operator License.

(b) Each cargo ship equipped with a radiotelegraph station in accordance with Part II of Title II of the Communications Act and which has a radiotelegraph auto alarm must carry a radio officer holding a First Class Radiotelegraph Operator's Certificate, Second Class Radiotelegraph Operator's Certificate, or Radiotelegraph Operator License who has had at least six months service as a radio officer on board U.S. ships. If the radiotelegraph station does not have an auto alarm, a second radio officer who holds a First Class Radiotelegraph Operator's Certificate, Second Class Radiotelegraph Operator's Certificate, or Radiotelegraph Operator License must be carried.

* * * * *

31. Section 80.165 is amended by revising the table entry for “Ship Morse telegraph” to read as follows:

§ 80.165 Operator requirements for voluntary stations.

Minimum Operator License
Ship Morse telegraph | T.
* * * * *

32. Section 80.167 is amended by revising the introductory text to read as follows:

§ 80.167 Limitations on operators.

The operator of maritime radio equipment other than T-1, T-2, T, or G licensees must not:

* * * * *

33. Section 80.169 is amended by revising paragraphs (a) and (b) to read as follows:

§ 80.169 Operators required to adjust transmitters or radar.

(a) All adjustments of radio transmitters in any radiotelephone station or coincident with the installation, servicing, or maintenance of such equipment which may affect the proper operation of the station, must be performed by or under the immediate supervision and responsibility of a person holding a First Class Radiotelegraph Operator's Certificate, Second Class Radiotelegraph Operator's Certificate, Radiotelegraph Operator License, or General Radiotelephone Operator License.

(b) Only persons holding a First Class Radiotelegraph Operator's Certificate, Second Class Radiotelegraph Operator's Certificate, or Radiotelegraph Operator License must perform such functions at radiotelegraph stations transmitting Morse code.

* * * * *

34. Section 80.203 is amended by revising paragraph (b)(3) to read as follows:

§ 80.203 Authorization of transmitters for licensing.

* * * * *

(b) * * *

(3) Except as provided in paragraph (b)(4) of this section, programming of authorized channels must be performed only by a person holding a First Class Radiotelegraph Operator's Certificate, Second Class Radiotelegraph Operator's Certificate, Radiotelegraph Operator License, or General Radiotelephone Operator License using any of the following procedures:

* * * * *

35. Section 80.401 is amended by revising the table and note 5 to read as follows:

§ 80.401 Station documents requirement.

* * * * *

Notes: * * *

5. The requirements for having the GMDSS Master Plan, NGA Publication 117, Admiralty List of Radio Signals or IMO Circ. 7 are satisfied by having any one of those four documents.

36. Section 80.409 is amended by revising paragraphs (e)(3) through (13), (f) introductory text, (f)(1) introductory text, (f)(1)(i)(E), (f)(2) introductory text, and (f)(3) to read as follows:

§ 80.409 Station logs.

* * * * *

(e) * * *

(3) The time of any inadvertent transmissions of distress, urgency and safety signals including the time and method of cancellation.

(4) An entry that pre-departure equipment checks were satisfactory and that required publications are on hand. Daily entries of satisfactory tests to ensure the continued proper functioning of GMDSS equipment shall be made.

(5) A daily statement about the condition of the required radiotelephone equipment, as determined by either normal communication or test communication;

(6) A weekly entry that:

(i) The proper functioning of digital selective calling (DSC) equipment has been verified by actual communications or a test call;

(ii) The portable survival craft radio gear and radar transponders have been tested; and

(iii) The EPIRBs have been inspected.

(7) An entry at least once every thirty days that the batteries or other reserve power sources have been checked and are functioning properly.

(8) Results of required equipment tests, including specific gravity of lead-acid storage batteries and voltage reading of other types of batteries provided as a part of the compulsory installation;

(9) Results of inspections and tests of compulsorily fitted lifeboat radio equipment;

(10) When the master is notified about improperly operating radiotelephone equipment.

(11) At the beginning of each watch, the Officer of the Navigational Watch, or GMDSS Operator on watch, if one is provided, shall ensure that the navigation receiver is functioning properly and is interconnected to all GMDSS alerting devices which do not have integral navigation receivers, including: VHF DSC, MF DSC, satellite EPIRB and HF DSC or INMARSAT SES. On a ship without integral or directly connected navigation receiver input to GMDSS equipment, the Officer of the Navigational Watch, or GMDSS Operator on watch, shall update the embedded position in each equipment. An appropriate log entry of these actions shall be made.

(12) An entry describing any malfunctioning GMDSS equipment and another entry when the equipment is restored to normal operation.

(13) A GMDSS radio log entry shall be made whenever GMDSS equipment is exchanged or replaced (ensuring that ship MMSI identifiers are properly updated in the replacement equipment), when major repairs to GMDSS equipment are accomplished, and when annual GMDSS inspections are conducted.

(f) Applicable radiotelephone log entries. The log entries listed in paragraph (e) of this section are applicable as follows (vessels subject to the Global Maritime Distress and Safety System (GMDSS) should also refer to subpart W of this Part for additional guidance on maintenance of station logs):

(1) Radiotelephony stations subject to the Communications Act and/or the Safety Convention must record entries indicated by paragraphs (e)(1) through (e)(13) of this section. Additionally, the radiotelephone log must provide an easily identifiable, separate section relating to the required inspection of the ship's radio station. Entries must be made in this section giving at least the following information.

(i) * * *

(E) The inspector's signed and dated certification that the vessel meets the requirements of the Communications Act and, if applicable, the Safety Convention and the Bridge-to-Bridge Act contained in subparts R, S, U, or W of this part and has successfully passed the inspection.

* * * * *

(2) Radiotelephony stations subject to the Great Lakes Agreement and the Bridge-to-Bridge Act must record entries indicated by paragraphs (e)(1), (3), (5), (6), (7), (8), (10), (11), and (13), and of this section. Additionally, the radiotelephone log must provide an easily identifiable, separate section relating to the required inspection of the ship's radio station. Entries must be made in this section giving at least the following information:

* * * * *

(3) Radiotelephony stations subject to the Bridge-to-Bridge Act must record entries indicated by paragraphs (e)(1), (3), (5) (6), (7), (10), and (11) of this section.

37. Section 80.415 is amended by revising paragraph (b)(2) to read as follows:

§ 80.415 Publications.

* * * * *

(b) * * *

(2) U.S. NGA Publication 117 may be purchased from Superintendent of Documents, P.O. Box 371954, Pittsburgh, PA 15250-7954, telephone 202-512-1800.

* * * * *

38. Section 80.953 is amended by revising paragraph (b) introductory text to read as follows:

§ 80.953 Inspection and certification.

* * * * *

(b) An inspection and certification of a ship subject to the Great Lakes Agreement must be made by a technician holding one of the following: a General Radiotelephone Operator License, a GMDSS Radio Maintainer's License, a Radiotelegraph Operator License, a Second Class Radiotelegraph Operator's Certificate, or a First Class Radiotelegraph Operator's Certificate. Additionally, the technician must not be the vessel's owner, operator, master, or an employee of any of them. The results of the inspection must be recorded in the ship's radiotelephone log and include:

* * * * *

39. Section 80.1005 is revised to read as follows:

§ 80.1005 Inspection of station.

The bridge-to-bridge radiotelephone station will be inspected on vessels subject to regular inspections pursuant to the requirements of Parts II and III of Title II of the Communications Act, the Safety Convention or the Great Lakes Agreement at the time of the regular inspection. If after such inspection, the Commission determines that the Bridge-to-Bridge Act, the rules of the Commission and the station license are met, an endorsement will be made on the appropriate document. The validity of the endorsement will run concurrently with the period of the regular inspection. Each vessel must carry a certificate with a valid endorsement while subject to the Bridge-to-Bridge Act. All other bridge-to-bridge stations will be inspected from time to time. An inspection of the bridge-to-bridge station on a Great Lakes Agreement vessel must normally be made at the same time as the Great Lakes Agreement inspection is conducted by a technician holding one of the following: a General Radiotelephone Operator License, a GMDSS Radio Maintainer's License, a Radiotelegraph Operator License, a Second Class Radiotelegraph Operator's Certificate, or a First Class Radiotelegraph Operator's Certificate. Additionally, the technician must not be the owner, operator, master, or an employee of any of them. Ships subject to the Bridge-to-Bridge Act may, in lieu of an endorsed certificate, certify compliance in the station log required by § 80.409(f).

40. Section 80.1085 is amended by revising paragraph (b) to read as follows:

§ 80.1085 Ship radio equipment-General.

* * * * *

(b) Ships must carry either the most recent edition of the IMO publication entitled GMDSS Master Plan of Shore-Based Facilities, the U.S. NGA Publication 117, or the Admiralty List of Radio Signals Volume 5 Global Maritime Distress and Safety System. Notice of new editions will be published on the Commission's Wireless Telecommunications Bureau Web page under “Marine Services” and information will be provided about obtaining the new document.

* * * * *

41. Section 80.1129 is amended by revising paragraph (b) to read as follows:

§ 80.1129 Location and homing signals.

* * * * *

(b) Homing signals are those locating signals which are transmitted by mobile units in distress, or by survival craft, for the purpose of providing searching units with a signal that can be used to determine the bearing to the transmitting stations.

* * * * *

PART 87—AVIATION SERVICES

42. The authority citation for part 87 continues to read as follows:

Authority: 47 U.S.C. 154, 303 and 307(e), unless otherwise noted.

43. Section 87.87 is amended by redesignating paragraphs (b)(5) through (6) as (b)(6) through (7), paragraph (b)(3) as (b)(5), adding a new paragraph (b)(3), and revising paragraphs (b)(1) through (2) and (b)(4) to read as follows:

§ 87.87 Classification of operator licenses and endorsements.

* * * * *

(b) * * *

(1) T-1. First Class Radiotelegraph Operator's Certificate. Beginning May 20, 2013, no applications for new First Class Radiotelegraph Operator's Certificates will be accepted for filing.

(2) T-2. Second Class Radiotelegraph Operator's Certificate. Beginning May 20, 2013, no applications for new Second Class Radiotelegraph Operator's Certificates will be accepted for filing.

(3) T-3. Third Class Radiotelegraph Operator's Certificate (radiotelegraph operator's special certificate). Beginning May 20, 2013, no applications for new Third Class Radiotelegraph Operator's Certificates will be accepted for filing.

(4) T. Radiotelegraph Operator License.

* * * * *

[FR Doc. 2013-02372 Filed 4-17-13; 8:45 am]

BILLING CODE 6712-01-P